FEDERAL MARITIME COMMISSION

Notice of Agreement Filed

The Commission hereby gives notice of the filing of the following agreement under the Shipping Act of 1984. Interested parties may obtain copies of agreements by contacting the Commission's Office of Agreements at 202-523-5793 or via e-mail at tradeanalysis@fmc.gov. Interested parties may submit comments on an agreement to the Secretary, Federal Maritime Commission, Washington, DC 20573, within 10 days of the date this notice appears in the Federal Register.

Agreement No.: 011908.

Title: CSAV/Maruba Cross Slot Charter Agreement.

Parties: Maruba S.A. and Compania Sudamericana de Vapores S.A.

Filing Party: Walter H. Lion, Esq.; McLaughlin & Stern, LLP; 260 Madison Avenue; New York, New York 10016.

Synopsis: The agreement permits CSAV and Maruba to cross charter space in the trade between the United States Pacific Coast and the Pacific Coasts of Mexico and Canada.

Dated: March 15, 2005.
By Order of the Federal Maritime Commission.
Bryant L. VanBrakle,
Secretary.

[FR Doc. 05-5423 Filed 3-17-05; 8:45 am]

BILLING CODE 6730-01-P